FEDERAL COMMUNICATIONS COMMISSION

47 CFR Part 73

[DA 04-2059; MB Docket No. 02-124; RM-10446]

Radio Broadcasting Services; Amboy, CA

AGENCY: Federal Communications Commission.

ACTION: Final rule.

SUMMARY: The Audio Division, at the request of KHWY, Inc., allots Channel 237A at Amboy, California, as the community's first local FM service. Channel 237A can be allotted to Amboy, California, in compliance with the Commission's minimum distance separation requirements with a site restriction of 7.4 km (4.6 miles) northeast of Amboy. The coordinates for Channel 237A at Amboy, California, are 34-26-00 North Latitude and 115-40-52 West Longitude. The Mexican government has concurred in this allotment. A filing window for Channel 237A at Amboy, California, will not be opened at this time. Instead, the issue of opening this allotment for auction will be addressed by the Commission in a subsequent Order.

DATES: Effective August 23, 2004.

FOR FURTHER INFORMATION CONTACT: Deborah Dupont, Media Bureau, (202) 418-2180.

SUPPLEMENTARY INFORMATION: This is a synopsis of the Commission's Report and Order, MB Docket No. 02-124, adopted June 30, 2004, and released July 8, 2004. The full text of this Commission decision is available for inspection and copying during normal business hours in the FCC Information Center, Portals II, 445 12th Street, SW., Room CY-A257, Washington, DC 20554. The complete text of this decision may also be purchased from the Commission's duplicating contractor, Best Copy and Printing, Inc., 445 12th Street, SW., Room CY-B402, Washington, DC 20554, (800) 378-3160, or via the company's Web site, www.bcpiweb.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under California, is amended by adding Amboy, Channel 237A.

Federal Communications Commission.
John A. Karousos,
Assistant Chief, Audio Division, Media Bureau.

[FR Doc. 04-16612 Filed 7-20-04; 8:45 am]

BILLING CODE 6712-01-U